COMMISSION ON CIVIL RIGHTS

Agenda and Notice of Public Meeting of the Maryland Advisory Committee; Correction

AGENCY: Commission on Civil Rights.

ACTION: Notice; correction.

SUMMARY: The Commission on Civil Rights published a notice in the Federal Register of September 22, 2016, concerning a meeting of the Maryland Advisory Committee. The notice is revised to provide further details about specific meeting dates.

FOR FURTHER INFORMATION CONTACT: Barbara de La Viez, (202) 376-7533.

Correction

In the Federal Register of Maryland, in FR Doc. 2016-22851, on page 65335-65336, correct the first paragraph to read:

Notice is hereby given, pursuant to the provisions of the rules and regulations of the U.S. Commission on Civil Rights (Commission), and the Federal Advisory Committee Act (FACA), that a planning meeting of the Maryland Advisory Committee to the Commission will convene by conference call at 12:30 p.m. (EST) on Friday, January 13, 2017. The purpose of the planning meeting is to vote on a project proposal for the Committee to study the civil rights issues related to bail bonds and municipal fines in Maryland and discuss future project planning.

Dated: December 16, 2016.
David Mussatt,
Supervisory Chief, Regional Programs Coordination Unit.

[FR Doc. 2016-30810 Filed 12-21-16; 8:45 am]

BILLING CODE P